OFFICE OF PERSONNEL MANAGEMENT

Hispanic Council on Federal Employment; Cancellation of Upcoming Meeting

AGENCY: U. S. Office of Personnel Management.

ACTION: Notice.

SUMMARY: The Hispanic Council on Federal Employment is issuing this notice to cancel the June 17, 2011, public meeting scheduled to be held in Room 230, U.S. Department of Veteran Affairs, 810 Vermont Ave. NW., Washington, DC. The original Federal Register notice announcing this meeting was published Wednesday, June 1, 2011, at 76 FR 31645.

FOR FURTHER INFORMATION CONTACT: Veronica E. Villalobos, Director for the Office of Diversity and Inclusion, Office of Personnel Management, 1900 E. St., NW., Suite 5305, Washington, DC 20415. Phone (202) 606-2984 Fax (202) 606-2183 or e-mail at Edgar.Gonzalez@opm.gov.

U.S. Office of Personnel Management.
John Berry,
Director.

[FR Doc. 2011-15096 Filed 6-16-11; 8:45 am]

BILLING CODE 6325-49-P